DEPARTMENT OF ENERGY

Federal Energy Regulatory Commission

Notice of Petition for Declaratory Order

| Docket Nos.
Marion County Solar Farm I LLC | EL20-6-000
Marion County Solar Farm I LLC | QF20-83-001
Marion County Solar Farm II LLC | QF20-84-001
Taylor County Solar LLC | QF20-85-001
Plum Solar Farm LLC | QF20-123-001
Stillmore Solar Farm LLC | QF20-121-001
Plum Solar Farm LLC | QF20-122-001
Taylor Solar LLC | QF20-86-001
Taylor Solar LLC | QF20-87-001
Taylor Solar LLC | QF20-88-001
Taylor Solar LLC | QF20-89-001
Taylor Solar LLC | QF20-90-001
Taylor Solar LLC | QF20-91-001
Taylor Solar LLC | QF20-92-001
Taylor Solar LLC | QF20-93-001
Taylor Solar LLC | QF20-94-001
Taylor Solar LLC | QF20-95-001
Taylor Solar LLC | QF20-96-001
Taylor Solar LLC | QF20-97-001
Taylor Solar LLC | QF20-98-001
Taylor Solar LLC | QF20-99-001
Taylor Solar LLC | QF20-100-001
Taylor Solar LLC | QF20-101-001
Taylor Solar LLC | QF20-102-001
Taylor Solar LLC | QF20-103-001
Taylor Solar LLC | QF20-104-001
Taylor Solar LLC | QF20-105-001
Fulton Mill Solar Farm LLC | QF20-125-001
Fulton Mill Solar Farm LLC | QF20-124-001
Fulton Mill Solar Farm LLC | QF20-126-001
Cook Solar LLC | QF20-106-001
Cook Solar LLC | QF20-107-001
Cook Solar LLC | QF20-108-001
Cook Solar LLC | QF20-109-001
Cook Solar LLC | QF20-110-001
Cook Solar LLC | QF20-111-001
Cook Solar LLC | QF20-112-001
Cook Solar LLC | QF20-113-001
Cook Solar LLC | QF20-114-001
Cook Solar LLC | QF20-115-001
Cook Solar LLC | QF20-116-001
Cook Solar LLC | QF20-117-001
Cook Solar LLC | QF20-118-001
Cook Solar LLC | QF20-119-001
Cook Solar LLC | QF20-120-001

Take notice that on November 5, 2019, pursuant to Rule 207 of the Federal Energy Regulatory Commission's (Commission) Rules of Practice and Procedure, 18 CFR 385.207, Marion County Solar Farm I LLC, Marion County Solar Farm II LLC, Taylor County Solar LLC, Plum Solar Farm LLC, Stillmore Solar Farm LLC, Taylor Solar LLC, Fulton Mill Solar Farm LLC, and Cook Solar LLC, (jointly, Petitioners) filed a petition for a declaratory order seeking limited waiver of the filing requirements applicable to small power production facilities set forth in section 292.203(a)(3) of the Commission's regulations for varying time periods beginning when these facilities were placed in service up to October 21, 2019 when Petitioners filed FERC Form 556s, as more fully explained in the petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern time on December 5, 2019.

Dated: November 6, 2019.
Kimberly D. Bose,
Secretary.

[FR Doc. 2019-24630 Filed 11-12-19; 8:45 am]

BILLING CODE 6717-01-P